DEPARTMENT OF HOMELAND SECURITY

Coast Guard

DEPARTMENT OF TRANSPORTATION

Maritime Administration

[USCG-2002-14134]

Port Pelican LLC Deepwater Port License Application

AGENCY: Coast Guard, DHS, and Maritime Administrative, DOT.

ACTION: Draft environmental impact statement, notice of availability and request for public comments; notice of meeting.

SUMMARY: The U.S. Coast Guard and the Maritime Administration announce the availability of the draft environmental impact statement for the Port Pelican LLC Deepwater Port License Application. We request your input on this draft environmental impact statement, which covers the construction and operation of a liquefied natural gas deepwater port known as “Port Pelican” and associated anchorage on the Outer Continental Shelf in the Gulf of Mexico, approximately 36 miles south southwest of Freshwater City, Louisiana.

DATES: The draft environmental impact statement (EIS) will be available on May 30, 2003, and comments must reach the Coast Guard on or before July 15, 2003. A public meeting will be held on July 1, 2003, 3 p.m. to 7 p.m., in Lafayette, LA.

ADDRESSES: The draft EIS will be available in the docket on the Internet at http://dms.dot.gov under docket number USCG-2002-14134 or by contacting the U.S. Coast Guard as indicated in FOR FURTHER INFORMATION CONTACT. The meeting location is: Lafayette Hilton Hotel, West Pinhook Road, Lafayette, LA 70503, (337) 235-6111.

Comments may be submitted in several ways. To make sure your comments and related material are not entered more than once in the docket, please submit them by only one of the following means:

(1) By mail to the Docket Management Facility (USCG-2002-14134), U.S. Department of Transportation, Room PL-401, 400 Seventh Street SW., Washington, DC 20590-0001.

(2) By delivery to Room PL-401 on the Plaza Level of the Nassif Building, 400 Seventh Street, SW., Washington, DC between 9 a.m. and 5 p.m., Monday through Friday, except Federal holidays. The telephone number is (202) 366-9329.

(3) By fax to the Docket Management Facility at (202) 493-2251.

(4) Electronically through the Web Site for the Docket Management System at http://dms.dot.gov.

The Docket Management Facility maintains the public docket for this notice. Comments will become part of this docket and will be available along with the draft EIS for inspection or copying at Room PL-401, located on the Plaza Level of the Nassif Building at the above address between 9 a.m. and 5 p.m., Monday through Friday, except for Federal holidays. You may also view this docket, including this notice and comments, on the Internet at http://dms.dot.gov.

Anyone can search the electronic form of all comments received into any of our dockets by the name of the individual submitting the comment (or signing the comment, if submitted on behalf of an association, business, labor union, etc.). You may review the Department of Transportation's complete Privacy Act Statement in the Federal Register published on April 11, 2000 (65 FR 19477-78), or you may visit http://dms.dot.gov.

FOR FURTHER INFORMATION CONTACT: If you have questions about the project, you may contact Commander Mark Prescott, U.S. Coast Guard at (202) 267-0225 or mprescott@comdt.uscg.mil. If you have questions on viewing or submitting material to the docket, call Dorothy Beard, Chief, Dockets, DOT, telephone (202) 366-5149.

SUPPLEMENTARY INFORMATION:

Authority: 33 U.S.C. 1504(f).

Request for Comments

We encourage you to submit comments on this draft EIS (A copy of the draft EIS is available as indicated under ADDRESSES). If you do so, please include your name and address, identify the docket number for this notice (USCG-2002-14134) and give the reasons for each comment. You may submit your comments by mail, hand delivery, fax or electronic means to the Docket Management Facility at the address given under ADDRESSES, but please submit your comments and materials by only one means. If you submit them by mail or hand delivery, submit them in an unbound format, no larger than 8½ by 11 inches, suitable for copying and electronic filing. If you submit them by mail, and would like to know if they reached the Facility, please enclose a stamped, self-addressed postcard or envelope. We will consider all comments received during the comment period. Comments received during the draft EIS review period will be available in the public docket and addressed in the final EIS. A notice of availability of the final EIS will also be published in the Federal Register.

Public Meeting/Open House

The Coast Guard and the Maritime Administration will host an informational open house from 3 p.m. to 7 p.m. on Tuesday, July 1, 2003, at the Lafayette Hilton Hotel, West Pinhook Road, Lafayette, Louisiana. A public meeting will be held concurrently with the informational open house, and will commence at 5 p.m. We invite the public and representatives of interested agencies to attend and provide their views on the proposed action and the evaluation contained in the draft EIS (A copy of the draft EIS is available as indicated under ADDRESSES). If you plan to attend the meeting and need special assistance, such as sign language interpretation or other reasonable accommodations, contact the U.S. Coast Guard as indicated in FOR FURTHER INFORMATION CONTACT.

Proposed Action

The application plan calls for construction of the Port Pelican Deepwater Port and associated anchorage in an area situated in the Gulf of Mexico approximately 36 miles south southwest of Freshwater City, Louisiana, in Vermilion Block 140. Additional information on the application can be found online at http://dms.dot.gov under docket number USCG-2002-14134, or in the notice of application published in the Federal Register at 67 FR 79234 (Dec. 27, 2002).

The proposed project would deliver natural gas to the United States Gulf Coast using existing gas supply and gathering systems in the Gulf of Mexico and southern Louisiana. Gas would then be delivered to shippers using the national pipeline grid through interconnections with major interstate and intrastate pipelines.

The project would consist of two concrete gravity based structure (GBS) units fixed to the seabed, which would include integral liquefied natural gas (LNG) storage tanks, support deck mounted LNG receiving and vaporization equipment and utilities, berthing accommodations for LNG carriers, facilities for delivery of natural gas to a pipeline transportation system, and personnel accommodations.

A 42-inch diameter offshore Pelican Interconnector Pipeline (PIPL), 37 nautical miles in length, would be constructed as part of the project. The PIPL would transport gas from the terminal to a point near the Tiger Shoal Platform “A” where it would connect to the Henry-Floodway Gas Gathering System (HFGGS). The HFGGS would deliver the gas to the onshore U.S. gas pipeline network.

Alternatives

The draft EIS examines in detail an alternative location for siting of the project and a no-action alternative. The alternative site, approximately 30 miles east of Vermilion Block 140, would involve use of South Marsh Island Block 4.

Evaluation of the no-action alternative, defined as not approving the license application, provides a baseline for comparing the impacts associated with the proposed action and use of the alternative site.

Dated: May 22, 2003.
Joseph J. Angelo,
Director of Standards, Marine Safety, Security and Environmental Protection, U.S. Coast Guard.
Raymond R. Barberesi,
Director, Office of Ports and Domestic Shipping, Maritime Administration.

[FR Doc. 03-13418 Filed 5-23-03; 3:17 pm]

BILLING CODE 4910-15-P